DEPARTMENT OF JUSTICE

Notice of Lodging of Consent Decree Pursuant To Comprehensive Environmental Response, Compensation, and Liability Act

Notice is hereby given that on March 22, 2005, a proposed Consent Decree in United States v. Chemical Waste Management, et al., Civil Action No. 02-2007, was lodged with the United States District Court for the District of New Jersey.

The proposed Consent Decree resolves the United States' claims for reimbursement of response costs, pursuant to section 107(a) of the Comprehensive Environmental Response, Compensation, and Liability Act (“CERCLA”), 42 U.S.C. 9607(a), and for civil penalties, pursuant to section 106 of CERCLA, against Waste Management, Inc., Chemical Waste Management, Inc., SCA Services, Inc., SCA Services of Passaic, Inc., Wastequid, Inc., Waste Management Holdings, Inc., Earthline Company, Anthony Gaess, Transtech Industries, Inc., Filcrest Realty, Inc. Inmar Associates, Inc., and Kin-Buc, Inc. (“Settling Defendants”), in connection with the Kin-Buc Landfill Superfund Site, in Edison, New Jersey (“Site”). Under the proposed Decree, Settling Defendants will: (1) Pay $2,625,000 in reimbursement of the United States' Site-related response costs, plus interest; (2) pay $100,000 in civil penalties, plus interest; (3) perform a Supplemental Environmental Project (“SEP”), involving (a) The transfer of title to approximately 96 acres of land; (b) the recording of Conservation Easements prohibiting most use and development of the land in perpetuity; and (c) payment of $25,000 in SEP funding; and (4) provide Additional Relief, including the payment of at least $83,000 for the preparation and implementation of initial and final financing plans, an open space land management plan, and a wetland restoration plan covering at least the 96 acres. To become effective, the Consent Decree must be approved by the United States District Court for the District of New Jersey.

For a period of thirty (30) days after the date of this publication, the U.S. Department of Justice will accept comments relating to the proposed Consent Decree. Comments should be addressed to the Assistant Attorney General of the Environment and Natural Resources Division, U.S. Department of Justice, c/o David L. Weigert, Esq., Environmental Enforcement Section, PO Box 7611, Ben Franklin Station, Washington, DC 20044-7611, and should refer to United States v. Chemical Waste Management, et al., Civil Action No. 02-2077, DJ # 90-11-3-1563/1.

The proposed Consent Decree may be examined at the Office of the United States Attorney, District of New Jersey, Peter W. Rodino, Jr. Federal Building, 970 Broad Street, 7th Floor Newark, New Jersey and the office of the U.S. Environmental Protection Agency, Region II, New Jersey Superfund Branch, 290 Broadway, 19th Floor, New York, New York. During the public comment period, the Consent Decree may also be examined on the following Department of Justice Web site, http://www.usdoj.gov/enrd/open.html. Copies of the proposed Consent Decree may also be obtained by mail from the Consent Decree Library, PO Box 7611, U.S. Department of Justice, Washington, DC 20044-7611, or by faxing or e-mailing a request to Tonia Fleetwood (tonia.fleetwood@usdoj.gov), fax number (202) 514-0097, phone confirmation number (202) 514-1547. If requesting a copy of the proposed Consent Decree, including attachments, please enclose a check in the amount of $70.00 (25 cents per page reproduction cost) payable to the U.S. Treasury.

Ronald G. Gluck,
Assistant Section Chief, Environmental Enforcement Section, Environment and Natural Resources Division, Department of Defense.

[FR Doc. 05-6304 Filed 3-29-05; 8:45 am]

BILLING CODE 4410-15-M